DEPARTMENT OF JUSTICE

Drug Enforcement Administration

[Docket No. DEA-592]

Importer of Controlled Substances Application: Johnson Matthey Inc.

ACTION: Notice of application.

DATES: Registered importers of the affected basic classes, and applicants therefore, may file written comments on or objections to the issuance of the proposed registration on or before April 9, 2020. Such persons may also file a written request for a hearing on the application on or before April 9, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All request for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on September 11, 2019, Johnson Matthey Inc., Pharmaceutical Materials, 2003 Nolte Drive, West Deptford, New Jersey 08066-1742 applied to be registered as an importer of the following basic classes of controlled substances:

Controlled substance | Drug code | Schedule
Coca Leaves | 9040 | II
Thebaine | 9333 | II
Opium, raw | 9600 | II
Noroxymorophone | 9668 | II
Poppy Straw Concentrate | 9670 | II
Fentanyl | 9801 | II

The company plans to import Coca Leaves (9040), Opium, raw (9600), and Poppy Straw Concentrate (9670) in order to bulk manufacture active pharmaceutical ingredients (API) for distribution to its customers. The company plans to also import Thebaine (9333), Noroxymorophone (9668), and Fentanyl (9801) to use as analytical reference standards, both internally and to be sold to their customers to support testing of Johnson Matthey Inc.'s active pharmaceutical ingredients (API's) only.

Dated: February 10, 2020.
William T. McDermott,
Assistant Administrator.

[FR Doc. 2020-04836 Filed 3-9-20; 8:45 am]

BILLING CODE 4410-09-P